DEPARTMENT OF THE INTERIOR

National Park Service

[NPS-NERO-ACAD-22300; PPNEACADSO, PPMPSPDIZ.YM0000]

Notice of the 2017 Meeting Schedule of the Acadia National Park Advisory Commission

AGENCY: National Park Service, Interior.

ACTION: Meeting notice.

SUMMARY: This notice sets the dates of the next three meetings of the Acadia National Park Advisory Commission occurring in 2017. The Commission meeting locations may change based on inclement weather or exceptional circumstances. If a meeting location is changed, the Superintendent will issue a press release and use local newspapers to announce the meeting.

DATES: All meetings will begin at 1:00 p.m. (EASTERN). The schedule for the future public meetings of the Commission will be held as follows: Monday, February 6, 2017; Monday, June 5, 2017; and Monday, September 11, 2017.

ADDRESSES: For the February 6, 2017, and June 5, 2017, meetings, the Commission will meet at the Acadia National Park headquarters conference room, Acadia National Park, 20 McFarland Hill Drive, Bar Harbor, Maine 04609. For the September 11, 2017, meeting, the Commission will meet at Schoodic Education and Research Center, Winter Harbor, Maine 04693.

FOR FURTHER INFORMATION CONTACT: Further information concerning these meetings may be obtained from R. Michael Madell, Deputy Superintendent, Acadia National Park, P.O. Box 177, Bar Harbor, Maine 04609, telephone (207) 288-8701 or via email michael_madell@nps.gov.

SUPPLEMENTARY INFORMATION: The meeting is open to the public. Interested persons may make oral/written presentations to the Commission or file written statements. Such requests should be made to the Superintendent at least seven days prior to the meeting. Before including your address, telephone number, email address, or other personal identifying information in your comment, you should be aware that your entire comment—including your personal identifying information—may be made publicly available at any time. While you may ask us in your comment to withhold your personal identifying information from public review, we cannot guarantee that we will be able to do so.

Agenda: Commission meetings will consist of the following proposed agenda items:

1. Committee Reports:

• Land Conservation

• Park Use

• Science and Education

• Historic

2. Old Business

3. Superintendent's Report

4. Chairman's Report

5. Public Comments

6. Adjournment

Alma Ripps,
Chief, Office of Policy.

[FR Doc. 2016-29550 Filed 12-8-16; 8:45 am]

BILLING CODE 4312-52-P